DEPARTMENT OF DEFENSE

Office of the Secretary

[Docket ID: DOD-2011-OS-0037]

Privacy Act of 1974; System of Records

AGENCY: Office of the Secretary, DoD.

ACTION: Notice to alter a system of records.

SUMMARY: The Office of the Secretary of Defense proposes to alter a system of records in its inventory of record systems subject to the Privacy Act of 1974 (5 U.S.C. 552a), as amended.

DATES: This proposed action would be effective without further notice on May 2, 2011 unless comments are received which result in a contrary determination.

ADDRESSES: You may submit comments, identified by docket number and/Regulatory Information Number (RIN) and title, by any of the following methods:

* Federal Rulemaking Portal: http://www.regulations.gov. Follow the instructions for submitting comments.

* Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Cindy Allard at (703) 588-6830, or Chief, OSD/JS Privacy Office, Freedom of Information Directorate, Washington Headquarters Services, 1155 Defense Pentagon, Washington, DC 20301-1155.

SUPPLEMENTARY INFORMATION: The Office of the Secretary of Defense notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on March 22, 2011, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: March 23, 2011.
Morgan F. Park,
Alternate OSD Federal Register Liaison Officer, Department of Defense.

DMDC 10

System name:

The Defense Biometric Identification Data System (May 6, 2009, 74 FR 20930)

Changes:

System ID: DMDC 10

Delete entry and replace with “DMDC 10 DoD.”

* * * * *

System location:

Delete entry and replace with “Defense Manpower Data Center, 400 Gigling Road, Seaside, CA 93955-6771.

For a list of installations using this system, contact the system manager.”

Categories of individuals covered by the system:

Delete entry and replace with “All individuals who request or have been granted physical access to DoD installations and facilities or using facilities interfacing with Defense Manpower Data Center Physical Access Control Systems. All individuals who have been or will be denied access to a DoD installation or facility using or interfacing with Defense Manpower Data Center Physical Access Control System based on the decision of the facility commander in charge of physical access control.”

Categories of records in the system:

Delete entry and replace with “Personal data includes name, grade, Social Security Number (SSN), DoD ID number, status, date and place of birth, weight, height, eye color, hair color, gender, nationality, race, tribe, passport information, country of citizenship, home and work addresses, personal and work e-mail addresses and telephone numbers, marital status, index fingerprints or 10-print rolled and slapped fingerprints, iris scans, hand geometry and/or photographs, dates of issue and expiration of facility and installation access credentials.

Privately owned vehicle information includes name of vehicle manufacturer, model year, color and vehicle type, license plate type (e.g., personal, commercial) and number, vehicle identification number (VIN), and current registration, automobile insurance, and driver's license data.

Information on personal property stored on a military installation or facility contains data on government-issued and personal weapons, such as type, serial number, manufacturer, caliber, and firearm registration date; storage location data to include unit, room, building, and phone number; and type(s) of personal property (e.g., bicycles) and description of property, serial number, and color.”

Authority for maintenance of the system:

Delete entry and replace with “10 U.S.C. 113, Secretary of Defense; Directive-Type Memorandum (DTM) 09-012, Interim Policy Guidance for DoD Physical Access Control; 10 U.S.C. 136, Under Secretary of Defense for Personnel and Readiness; DoD Directive 1000.25, DoD Personnel Identity Protection (PIP) Program; DoD Instruction 5200.08, Security of DoD Installations and Resources; DoD 5200.08-R, Physical Security Program; and E.O. 9397 (SSN), as amended.”

Purpose(s):

Delete entry and replace with “The records support DoD physical security and information assurance programs, to issue individual facility/installation access credentials, and for identity verification purposes. The system also is used to record personal vehicles and property registered with the DoD and for producing facility management reports. The records may be accessed by other physical access control systems for further verification at other sites. Records may also used for law enforcement purposes.”

Routine uses of records maintained in the system, including categories of users and the purpose of such uses:

Delete entry and replace with “In addition to those disclosures generally permitted under 5 U.S.C. 552a(b) of the Privacy Act of 1974, these records may specifically be disclosed outside the DoD as a routine use pursuant to 5 U.S.C. 552a(b)(3) as follows:

The DoD `Blanket Routine Uses' set forth at the beginning of the Office of the Secretary of Defense (OSD) compilation of systems of records notices apply to this system.

Policies and practices for storing, retrieving, accessing and disposing of records in the system:

Storage:

Delete entry and replace with “Paper file folders and electronic storage media.”

Retrievability:

Retrieved primarily by name, SSN, vehicle identifiers, or weapon identification data. However, data may also be retrieved by other data elements such as passport number, photograph, fingerprint data, and similar elements in the database.

Safeguards:

Delete entry and replace with “Computerized records are maintained in a controlled area accessible only to authorized personnel. Entry is restricted by the use of locks, guards, and administrative procedures. Access to personal information is role based and limited to those who require the records in the performance of their official duties. Access to personal information is further restricted by the use of unique logon and passwords, which are changed periodically.”

Retention and disposal:

Delete entry and replace with “Discontinue records on deactivation or confiscation of access credentials. Delete data no less than 3 years old and no later than 5 years. Data is deleted between these 3-5 year period when no longer needed.”

System manager(s) and address:

Delete entry and replace with “Deputy for Identity, Defense Manpower Data Center, 1600 Wilson Boulevard, Suite 400, Arlington, VA 22209-2593.”

Notification procedure:

Delete entry and replace with “Individuals seeking to determine whether information about themselves is contained in this system should address written inquiries to the Deputy for Identity, Defense Manpower Data Center, 1600 Wilson Blvd, Suite 400, Arlington, VA 22209-2593.

Written requests should contain the full name, SSN, date of birth, installation name and/or region the record was created and current address and telephone number of the individual.”

Record access procedures:

Delete entry and replace with “Individuals seeking access to information about themselves contained in this system should address written inquiries to the Office of the Secretary of Defense/Joint Staff Freedom of Information Act Requester Service Center, 1155 Defense Pentagon, Washington, DC 20301-1155.

Written requests should contain the name and number of this system of records notice along with the full name, SSN, date of birth, installation name and/or region record was created and current address and telephone number of the individual and be signed.”

* * * * *

Record source categories:

Delete entry and replace with “Data is collected from the individual, the Defense Enrollment Eligibility Reporting System (DEERS), the Military Services, and the DoD Components.”

* * * * *

DMDC 10 DoD

System name:

Defense Biometric Identification Data System (DBIDS)

System location:

Defense Manpower Data Center, 400 Gigling Road, Seaside, CA 93955-6771.

For a list of installations using this system, contact the system manager.

Categories of individuals covered by the system:

All individuals who request or have been granted physical access to DoD installations and facilities or using facilities interfacing with Defense Manpower Data Center Physical Access Control Systems. All individuals who have been or will be denied access to a DoD installation or facility using or interfacing with Defense Manpower Data Center Physical Access Control System based on the decision of the facility commander in charge of physical access control.

Categories of records in the system:

Personal data includes name, grade, Social Security Number (SSN), DoD ID number, status, date and place of birth, weight, height, eye color, hair color, gender, nationality, race, tribe, passport information, country of citizenship, home and work addresses, personal and work e-mail addresses and telephone numbers, marital status, index fingerprints or 10-print rolled and slapped fingerprints, iris scans, hand geometry and/or photographs, dates of issue and expiration of facility and installation access credentials.

Privately owned vehicle information includes name of vehicle manufacturer, model year, color and vehicle type, license plate type (e.g., personal, commercial) and number, vehicle identification number (VIN), and current registration, automobile insurance, and driver's license data.

Information on personal property stored on a military installation or facility contains data on government-issued and personal weapons, such as type, serial number, manufacturer, caliber, and firearm registration date; storage location data to include unit, room, building, and phone number; and type(s) of personal property (e.g., bicycles) and description of property, serial number, and color.

Authority for maintenance of the system:

10 U.S.C. 113, Secretary of Defense; Directive-Type Memorandum (DTM) 09-012, Interim Policy Guidance for DoD Physical Access Control; 10 U.S.C. 136, Under Secretary of Defense for Personnel and Readiness; DoD Directive 1000.25, DoD Personnel Identity Protection (PIP) Program; DoD Instruction 5200.08, Security of DoD Installations and Resources; DoD 5200.08-R, Physical Security Program; and E.O. 9397 (SSN), as amended.

Purpose(s):

The records support DoD physical security and information assurance programs, to issue individual facility/installation access credentials, and for identity verification purposes. The system also is used to record personal vehicles and property registered with the DoD and for producing facility management reports. The records may be accessed by other physical access control systems for further verification at other sites. Records may also used for law enforcement purposes.

Routine uses of records maintained in the system, including categories of users and the purpose of such uses:

In addition to those disclosures generally permitted under 5 U.S.C. 552a (b) of the Privacy Act of 1974, these records may specifically be disclosed outside the DoD as a routine use pursuant to 5 U.S.C. 552a (b) (3) as follows:

The DoD `Blanket Routine Uses' set forth at the beginning of the Office of Secretary of Defense (OSD) compilation of systems of records notices apply to this system.

Policies and practices for storing, retrieving, accessing and disposing of records in the system:

Storage:

Paper file folders and electronic storage media.

Retrievability:

Retrieved primarily by name, SSN, vehicle identifiers, or weapon identification data. However, data may also be retrieved by other data elements such as passport number, photograph, fingerprint data, and similar elements in the database.

Safeguards:

Computerized records are maintained in a controlled area accessible only to authorized personnel. Entry is restricted by the use of locks, guards, and administrative procedures. Access to personal information is role based and limited to those who require the records in the performance of their official duties. Access to personal information is further restricted by the use of unique logon and passwords, which are changed periodically.

Retention and disposal:

Discontinue records on deactivation or confiscation of access credentials. Delete data no less than 3 years old and no later than 5 years. Data is deleted between these 3-5 year period when no longer needed.

System manager(s) and address:

Deputy for Identity, Defense Manpower Data Center, 1600 Wilson Boulevard, Suite 400, Arlington, VA 22209-2593.

Notification procedure:

Individuals seeking to determine whether information about themselves is contained in this system should address written inquiries to the Deputy for Identity, Defense Manpower Data Center, 1600 Wilson Blvd, Suite 400, Arlington, VA 22209-2593.

Written requests should contain the full name, SSN, date of birth, installation name and/or region the record was created and current address and telephone number of the individual.

Record access procedures:

Individuals seeking access to information about themselves contained in this system should address written inquiries to the Office of the Secretary of Defense/Joint Staff Freedom of Information Act Requester Service Center, 1155 Defense Pentagon, Washington, DC 20301-1155.

Written requests should contain the name and number of this system of records notice along with the full name, SSN, date of birth, installation name and/or region record was created and current address and telephone number of the individual and be signed.

Contesting records procedures:

The Office of the Secretary of Defense rules for accessing records, for contesting contents, and appealing initial agency determinations are published in Office of the Secretary of Defense Administrative Instruction 81; 32 CFR part 311; or may be obtained from the system manager.

Record source categories:

Data is collected from the individual, the Defense Enrollment Eligibility Reporting System (DEERS), the Military Services, and the DoD Components.

Exemptions claimed for the system:

None.

[FR Doc. 2011-7701 Filed 3-31-11; 8:45 am]

BILLING CODE 5001-06-P